DEPARTMENT OF TRANSPORTATION

Pipeline and Hazardous Materials Safety Administration

[Docket No. PHMSA-2017-0158]

Pipeline Safety: Request for Special Permit; Empire Pipeline—a National Fuel Gas Company

AGENCY: Pipeline and Hazardous Materials Safety Administration (PHMSA); DOT.

ACTION: Notice.

SUMMARY: PHMSA is publishing this notice to seek public comments on a request for a special permit from a natural gas pipeline operator that seeks relief from compliance with certain requirements in the Federal pipeline safety regulations to operate at an alternative maximum allowable operating pressure (MAOP) of up to 80 percent of the pipe's specified minimum yield strength (SMYS) on an existing 24-inch diameter pipeline. At the conclusion of the 30-day comment period, PHMSA will review the comments received from this notice as part of its evaluation to grant or deny the special permit request.

DATES: Submit any comments regarding this special permit request by August 24, 2018.

ADDRESSES: Comments should reference the docket number for the specific special permit request and may be submitted in the following ways:

• E-Gov website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: There is a privacy statement published on http://www.Reglations.gov. Comments, including any personal information provided, are posted without changes or edits to http://www.Regulations.gov.

FOR FURTHER INFORMATION CONTACT:

General: Ms. Kay McIver by telephone at 202-366-0113, or email at kay.mciver@dot.gov.

Technical: Mr. Steve Nanney by telephone at 713-628-7479, or by email at Steve.Nanney@dot.gov.

SUPPLEMENTARY INFORMATION: Empire Pipeline, owned by National Fuel Gas Company, has requested a special permit for 49 Code of Federal Regulations (CFR) 192.112(c)(1) and (2), 192.112(f)(3), 192.328(a), and 192.328(e) for the Empire Connector Pipeline (ECP) to be able to operate at alternative MAOP of up to 80 percent SMYS of the pipe. To operate a natural gas pipeline at alternative MAOP, an operator must design, construct, and operate the pipeline in accordance with the Federal pipeline safety regulations of 49 CFR 192.112, 192.328, and 192.620.

Empire Pipeline is the operator of ECP. ECP is an interstate natural gas pipeline with 76.6 miles of 24-inch diameter pipe. The ECP runs north to south, from Victor to Coring, New York, through the counties of Ontario, Yates, Schuyler, Chemung and Steuben. The special permit requested segments of ECP total 69.8 miles and are in Class 1 and 2 locations and includes some high consequence areas. The ECP special permit segments are mostly in rural areas though agricultural fields, open pastures, wooden areas, and mostly flat to rolling terrain. The ECP construction began in 2007 and the line was placed in service on December 10, 2008. The ECP presently has a MAOP of 1,290 pounds per square inch gauge (psig) and has operated at, or below the MAOP for the life of the pipeline. ECP proposed to utilize alternative MAOP to allow increasing the pipeline MAOP from 1,290 psig up to 1,440 psig. The ECP has 6.5 miles of Class 3 locations that are designed for the alternative MAOP. The Class 3 locations will be required to meet the special permit conditions. The Class 3 locations are proposed to be included in the special permit for a total mileage of 76.6 miles.

A draft environmental assessment (DEA) and proposed special permit conditions for ECP's operations at alternative MAOP are provided in the docket at http://www.Regulations.gov. In the DEA, Empire proposes alternative measures and activities that will be taken to mitigate safety and environmental risks in the continued operation of the ECP at the alternative MAOP. The proposed special permit conditions are a draft of operational measures that would be implemented by Empire throughout the life of the ECP special permit to maintain safety at the alternative MAOP.

We invite interested persons to participate by reviewing the special permit request, DEA, and proposed special permit conditions at http://www.Regulations.gov, and by submitting written comments, data, or other views. Please include any comments on potential safety and environmental impacts that may result if the special permit is granted.

Before issuing a decision on the special permit request, PHMSA will evaluate all comments received on or before the comment closing date. Comments received after the closing date will be evaluated if it is possible to do so without incurring additional expense or delay. PHMSA will consider each relevant comment we receive in making our decision to grant or deny the request.

Issued in Washington, DC, on July 20, 2018, under authority delegated in 49 CFR 1.97.
Alan K. Mayberry,
Associate Administrator for Pipeline Safety.

[FR Doc. 2018-15895 Filed 7-24-18; 8:45 am]

BILLING CODE 4910-60-P